DEPARTMENT OF HEALTH AND HUMAN SERVICES

Office of the Secretary

OFFICE OF INSPECTOR GENERAL

Statement of Organization, Functions, and Delegations of Authority

This notice amends Part A (Office of the Secretary), chapter AF of the Statement of Organization, Functions, and Delegations of Authority for the Department of Health and Human Services (HHS) to reflect title changes and responsibilities within the Office of Inspector General's (OIG) Office of Evaluation and Inspections (OEI), Office of Management and Policy (OMP), Office of Investigations (OI), and Office of Audit Services (OAS). The statement of organization, functions, and delegations of authority conforms to and carries out the statutory requirements for operating OIG. Chapter AF was last published in its entirety on April 18, 2005 (70 FR 20147).

These organizational changes are primarily to realign the functions of OMP, OAS, OI, and OEI to better reflect the current work environment and priorities and to more clearly delineate responsibilities for the various activities within these offices.

As amended, sections AFC.00, AFC.10, AFC20, AFE.10, AFE.20, AFH10, AFH.20, and AFJ.20 of Chapter AF now reads as follows:

* * * * *

Section AFC.00, Office of Management and Policy—Mission

The Office of Management and Policy (OMP) provides mission support services to the Inspector General and other OIG components by formulating and executing the budget, developing policy, disseminating OIG information in the form of publications, managing information technology, human resources, executive resources and OIG space management. OMP also executes and maintains an internal quality assurance system, which includes quality control reviews of OMP processes and products, to ensure that OIG policies and procedures are followed effectively and function as intended.

Section AFC.10, Office of Management and Policy—Organization

The office is comprised of the following components.

A. Immediate Office

B. Budget Operations

C. Information Technology

D. Planning, Reporting, and Analysis

E. Administrative Services

Section AFC.20, Office of Management and Policy—Functions

A. Immediate Office of the Deputy Inspector General for OMP

This office is directed by the Deputy Inspector General for OMP who, aided by an Assistant Inspector General, is responsible for assuring that the OIG has the financial and administrative resources necessary to fulfill its mission. The Deputy Inspector General supervises the Directors for the Budget Division, Corporate Business Division, and Service and Support Division within the Office of Information Technology, Planning, Reporting and Analysis Division, and Administrative Services Division.

B. Budget

This office formulates and oversees the execution of the budget and confers with the Office of the Secretary, the Office of Management and Budget, and Congress on budget issues. It also issues quarterly grants to States for Medicaid Fraud Control Units and arranges internal control reviews for OIG, including the development of Government Performance and Results Act goals.

C. Information Technology

This office is directed by the Assistant Inspector General for Management and Policy who also serves as the Chief Information Officer for the Office of Inspector General. The office is responsible to support the Office of Inspector General and its components in completing their missions, by providing quality services for managing and processing information through the selected application of technology in a collaborative and secure manner. The office operates under the guidelines of Federal regulations, mandates, and directives for the development and operation of information technology systems. Organizational focus includes four key areas of (1) Technology planning and governance, (2) information assurance, (3) infrastructure and communications, and (4) systems and applications support. Technology projects provide a basic network infrastructure for a widely distributed organization across the nation, and mission-related technology to conduct the business of OIG.

D. Planning, Reporting, and Analysis

This office is responsible for coordinating the development and preparation of the work plan, including coordinating strategic long-range planning, tactical planning, and the annual work plan organization and production. It compiles the Office of Inspector General Semiannual Report to Congress and manages updates of the Unimplemented OIG Recommendations report, which is a compendium of significant OIG recommendations to reduce fraud, waste and abuse that have not been fully implemented.

E. Administrative Services

This office is responsible for overseeing emergency operations and national security classification policy. The office conducts management studies and analyzes, establishes, and coordinates general management policies for OIG and publishes those policies in the OIG Administrative Manual. This office is also accountable for the OIG framework for the organizational assessment, and space management for Washington, DC headquarters and over 90 geographic locations nationwide.

The office serves as OIG liaison to the Office of the Secretary for personnel issues and other administrative policies and practices; including human resources (HR), training, facilities, asset management, executive resources, and the performance management system, in addition to equal employment opportunity and other civil rights matters. These functions support all components of the OIG organization, except the HR function, which services all OMP staff.

* * * * *

Section AFE.10, Office of Evaluation and Inspections—Organization

This office is comprised of the following components:

A. Immediate Office

B. Budget and Administrative Resources Division

C. Evaluation Planning and Support Division

D. Regional Operations

E. Technical Support Staff

F. Medicaid Oversight Staff

Section AFE.20, Office of Evaluation and Inspections—Function

A. Immediate Office of the Deputy Inspector General for OEI

This office is directed by the Deputy Inspector General for OEI who, with the assistance of an Assistant Inspector General, is responsible for carrying out OIG's evaluations mission. The Deputy Inspector General supervises the Assistant Inspector General, the Director for Budget and Administrative Resources, and the Director of the Medicaid Fraud Unit Oversight Division. The Assistant Inspector General supervises the Directors of Evaluation and Planning and Support and Technical Support, as well as all Regional Operations.

B. Budget and Administrative Resources

This office develops OEI's evaluation and inspection policies, procedures and standards. It manages OEI's human and financial resources; develops and monitors OEI's management information systems; and conducts management reviews within the HHS/OIG and for other OIGs upon request. The office carries out and maintains an internal quality assurance system that includes quality assessment studies and quality control reviews of OEI processes and products to ensure that policies and procedures are effective, followed, and function as intended.

C. Evaluation Planning and Support

This office manages OEI's work planning process, and develops and reviews legislative, regulatory and program proposals to reduce vulnerabilities to fraud, waste, and mismanagement. It develops evaluation techniques and coordinates projects with other OIG and departmental components. It provides programmatic expertise and information on new programs, procedures, regulations, and statutes to OEI regional offices. This office maintains liaison with other components in the Department, follows up on implementation of corrective action recommendations, evaluates the actions taken to resolve problems and vulnerabilities identified, and provides additional data or corrective action options, where appropriate.

D. Regional Operations

Regional Offices comprise OEI's offices in the field. The regional offices conduct extensive evaluations of HHS programs and produce the results in inspection reports. They conduct data and trend analyses of major HHS initiatives to determine the effects of current policies and practices on program efficiency and effectiveness. These offices recommend changes in program policies, regulations, and laws to improve efficiency and effectiveness and to prevent fraud, abuse, waste, and mismanagement. They analyze existing policies to evaluate options for future policy, regulatory, and legislative improvement.

F. Medicaid Oversight Staff

The Medicaid Oversight Staff is responsible for overseeing the activities of the 49 State Medicaid Fraud Control Units (MFCUs). The division ensures the MFCUs' compliance with Federal grant regulations, administrative rules, and performance standards. The division is also responsible for certifying and recertifying the MFCUs on an annual basis.

Section AFH.10, Office of Audit Services—Organization

The office is comprised of the following components:

A. Immediate Office

B. Financial Management and Regional Operations

C. Centers for Medicare and Medicaid Services Audits

D. Grants, Internal Activities, and Information Technology Audits

E. Audit Management and Policy

Section AFH.20, Office of Audit Services—Functions

* * * * *

D. Grants, Internal Activities, and Information Technology Audits

This office is directed by the Assistant Inspector General for Grants, Internal Activities, and Information Technology Audits. The office conducts and oversees audits of the operations and programs of the Administration for Children and Families, the Administration on Aging, and the Public Health programs, as well as Statewide cost allocation plans. It maintains an internal quality assurance system, including periodic quality control reviews, to provide reasonable assurance that applicable laws, regulations, policies, procedures, standards and other requirements are followed in its audit activities. The office reviews the design, development and maintenance of Department computer-based systems through the conduct of comprehensive audits of general and application controls in accordance with applicable requirements and develops and applies advanced computer-based audit techniques for use in detecting fraud, waste and abuse in HHS programs.

E. Audit Management and Policy

This office is directed by the Assistant Inspector General for Audit Management and Policy. The office manages OAS's human and financial resources by developing staff allocation plans, monitoring budget execution, overseeing recruiting and training, and participating in the development of administrative policies and procedures. It maintains a professional development program for office staff, which meets the requirements of Government auditing standards. The office evaluates audit work, including performing quality control reviews of audit reports, and coordinates the development of and monitors audit work plans. It operates and maintains an OAS-wide quality assurance program that includes the conduct of periodic quality control reviews. It develops audit policy, procedures, standards, criteria and instructions to be followed by OAS staff in conducting audits of departmental programs, grants, contracts or operations. Such policy is developed in accordance with GAGAS and other legal, regulatory and administrative requirements. The office tracks, monitors and reports on audit resolution and follow-up in accordance with OMB Circular A-50, “Audit Follow-up,” and the 1988 Inspector General Act Amendments. The office coordinates with other OIG components in developing input to the Office of Inspector General Annual Work Plan, to the Office of Inspector General's Unimplemented OIG Recommendations, and to the Office of Inspector General Semiannual Report to the Congress.

* * * * *

Section AFJ.20, Office of Investigations—Functions

* * * * *

B. Investigative Operations

The Assistant Inspector General for Investigative Operations, who supervises a headquarters staff and the Special Agents in Charge, directs this office.

* * * * *

4. The regional offices conduct investigations of allegations of fraud, waste, abuse, mismanagement, and violations of standards of conduct within the jurisdiction of OIG in their assigned geographic areas. They coordinate investigations and confer with HHS operating division, staff divisions, OIG counterparts, and other investigative and law enforcement agencies. They prepare investigative and management improvement reports.

C. Investigative Oversight and Support

This office is directed by the Assistant Inspector General for Investigative Oversight and Support, who performs the general management functions of the Office of Investigations.

* * * * *

9. The office directs and manages extremely sensitive and complex investigations into alleged misconduct by OIG and Departmental employees, as well as criminal investigations into electronic and/or computer-related violations.

Dated: December 18, 2006.
Daniel R. Levinson,
Inspector General.

[FR Doc. E6-21857 Filed 12-20-06; 8:45 am]

BILLING CODE 4152-01-P